DEPARTMENT OF ENERGY

Federal Energy Regulatory Commission

Notice of Commission Staff Attendance

The Federal Energy Regulatory Commission (Commission) hereby gives notice that members of the Commission's staff may attend the following meetings related to the wholesale markets of ISO New England Inc.:

Integrating Markets and Public Policy:

January 25, 2017, 9:30 a.m.-4:00 p.m. (EST), Doubletree Hotel, 5400 Computer Drive, Westborough, MA 01581

February 16, 2017, 10:00 a.m.-5:00 p.m. (EST), Doubletree Hotel, 5400 Computer Drive, Westborough, MA 01581

Further information may be found at www.nepool.com/IMAPP.php.

The discussion at the meeting described above may address matters at issue in the following proceedings:

Docket Nos. EL13-33 and EL 14-86, Environment Northeast et al. v. Bangor Hydro-Electric Company et al.

Docket No. EL16-19, ISO New England Inc. Participating Transmission Owners Administrative Committee

Docket No. RP16-618, Algonquin Gas Transmission, LLC

Docket No. ER12-1650, Emera Maine

Docket No. ER14-1639, ISO New England Inc. and New England Power Pool Participants Committee

Docket No. ER13-2266, ISO New England Inc.

Docket No. ER15-1429, Emera Maine

Docket No. ER16-551, ISO New England Inc.

Docket No. ER16-1904, ISO New England Inc.

Docket No. ER16-2451, ISO New England Inc. and New England Power Pool Participants Committee

Docket No. EL16-120, New England Power Generators Association, Inc. v. ISO New England Inc.

Docket No. ER17-337, ISO New England Inc. and New England Power Pool Participants Committee

Docket No. ER17-472, ISO New England Inc. and New England Power Pool Participants Committee

Docket No. ER17-680, ISO New England Inc. and New England Power Pool Participants Committee

Docket No. ER17-774, ISO New England Inc. and New England Power Pool Participants Committee

Docket No. ER17-795, ISO New England Inc.

For more information, contact Michael Cackoski, Office of Energy Market Regulation, Federal Energy Regulatory Commission at (202) 502-6169 or Michael.Cackoski@ferc.gov.

Dated: January 19, 2017.
Kimberly D. Bose,
Secretary.

[FR Doc. 2017-01786 Filed 1-25-17; 8:45 am]

BILLING CODE 6717-01-P